DEPARTMENT OF COMMERCE

National Oceanic and Atmospheric Administration

50 CFR Part 218

[Docket No. 170720687-8212-01]

RIN 0648-BH06

Taking and Importing Marine Mammals; Taking Marine Mammals Incidental to the U.S. Navy Training and Testing Activities in the Atlantic Fleet Training and Testing Study Area

AGENCY: National Marine Fisheries Service (NMFS), National Oceanic and Atmospheric Administration (NOAA), Commerce.

ACTION: Proposed rule; correction.

SUMMARY: This document contains corrections to the preamble of the proposed regulations published on March 13, 2018, governing the take of marine mammals incidental to the U.S. Navy (Navy) training and testing activities in the Atlantic Fleet Training and Testing (AFTT) Study Area. This action is necessary to correct an error in where sections of the table were omitted in the Federal Register notice on March 13, 2018.

DATES: Applicable on April 9, 2018.

FOR FURTHER INFORMATION CONTACT: Stephanie Egger, Office of Protected Resources, NMFS; phone: (301) 427-8401, Stephanie.Egger@noaa.gov.

SUPPLEMENTARY INFORMATION:

Background

A proposed rule published March 13, 2018 (83 FR 10954) for the take of marine mammals incidental to the Navy's training and testing activities in the AFTT Study Area. This correction replaces Table 4 contained in the preamble of the proposed training activities within the AFTT Study Area.

Need for Correction

As published on page 10963 of the preamble to the proposed rule, Table 4. Proposed Training was incorrect. Sections of the table were missing from the preamble, specifically Amphibious Warfare, Anti-Submarine Warfare, Expeditionary Warfare, Mine Warfare, and a portion of Surface Warfare. This correction does not change NMFS' analysis or conclusions in the proposed rule. Table 4 is corrected to read as follows:

Dated: April 3, 2018.
Samuel D. Rauch III,
Deputy Assistant Administrator for Regulatory Programs, National Marine Fisheries Service.

[FR Doc. 2018-07131 Filed 4-6-18; 8:45 am]

BILLING CODE 3510-22-P